FEDERAL DEPOSIT INSURANCE CORPORATION

RIN 3064-ZA14

Extension of Comment Period; Request for Information on FDIC Sign and Advertising Requirements and Potential Technological Solutions

AGENCY: Federal Deposit Insurance Corporation (FDIC).

ACTION: Notice and request for comment; extension of comment period.

SUMMARY: On February 26, 2020, the Federal Deposit Insurance Corporation (FDIC) published in the Federal Register a request for information (RFI) seeking input regarding potential modernization of its sign and advertising rules to reflect that deposit-taking via physical branch, digital, and mobile banking channels continues to evolve since the FDIC last significantly updated its rules in 2006. The FDIC has determined that an extension of the comment period until April 20, 2020, is appropriate.

DATES: The comment period for the notice published on February 26, 2020 (85 FR 10997), regarding the RFI on FDIC Sign and Advertising Requirements and Potential Technological Solutions, is extended from March 19, 2020, to April 20, 2020.

ADDRESSES: You may submit comments by any of the methods identified in the RFI.

FOR FURTHER INFORMATION CONTACT: David Friedman, Senior Policy Analyst, Division of Depositor and Consumer Protection, (202) 898-7168, dfriedman@fdic.gov; Edward Hof, Senior Consumer Affairs Specialist, Division of Depositor and Consumer Protection, (202) 898-7213, edwhof@fdic.gov; or Richard M. Schwartz, Counsel, Legal Division, (202) 898-7424, rischwartz@fdic.gov.

SUPPLEMENTARY INFORMATION: On February 26, 2020, the FDIC published in the Federal Register an RFI seeking input regarding potential modernization of its sign and advertising rules to reflect that deposit-taking via physical branch, digital, and mobile banking channels continues to evolve since the FDIC last significantly updated its rules in 2006. The FDIC issued the RFI to inform FDIC efforts to align the policy objectives of its rules and keep pace with how today's banks offer deposit products and services and how consumers connect with banks, including through evolving channels. The FDIC also sought input on how to address potential misrepresentations by nonbanks about deposit insurance. In addition, the FDIC requested information about how technological or other solutions could be leveraged to help consumers better distinguish FDIC-insured banks and savings associations from entities that are not insured by the FDIC (nonbanks), particularly across web and digital channels. The RFI stated that the comment period would close on March 19, 2020. The FDIC has received requests to extend the comment period. An extension of the comment period will provide will allow interested parties additional time to analyze the issues and to prepare comments to address the questions posed by the FDIC. Therefore, the FDIC is extending the end of the comment period for the RFI from March 19, 2020, to April 20, 2020.

Federal Deposit Insurance Corporation.
Dated at Washington, DC, on March 9, 2020.
Annmarie H. Boyd,
Assistant Executive Secretary.

[FR Doc. 2020-05127 Filed 3-12-20; 8:45 am]

BILLING CODE 6714-01-P